NUCLEAR REGULATORY COMMISSION

[NRC-2013-0254]

Conceptual Example of a Proposed Risk Management Regulatory Framework Policy Statement

AGENCY: Nuclear Regulatory Commission.

ACTION: Conceptual example of a proposed policy statement; extension of comment period and public meeting.

SUMMARY: The U.S. Nuclear Regulatory Commission (NRC) is extending the public comment period on the document entitled, “White Paper on a Conceptual Example of a Proposed Risk Management Regulatory Framework Policy Statement (the white paper),” from January 10, 2014, to February 28, 2014. The NRC also plans to hold a public meeting to discuss and receive comments on the white paper.

DATES: The public meeting will be held on January 30, 2014. Additional details regarding the meeting are available in Section II, Public Meeting, of this document.

ADDRESSES: Please refer to Docket ID NRC-2013-0254 when contacting the NRC about the availability of information regarding this document. You may access publicly-available information related to this action by the following methods:

• Federal Rulemaking Web site: Go to http://www.regulations.gov and search for Docket ID NRC-2013-0254. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Mary Drouin, Office of Nuclear Regulatory Research, U.S. Nuclear Regulatory Commission, Washington, DC 20555-0001; telephone: 301-251-7574; email: Mary.Drouin@nrc.gov.

SUPPLEMENTARY INFORMATION:

I. Background

On November 25, 2013 (78 FR 70354), the NRC published for public comment a document entitled, “White Paper on a Conceptual Example of a Proposed Risk Management Regulatory Framework Policy Statement (ADAMS Accession No. ML13273A517).” The conceptual statement would set forth a possible Commission policy regarding the use of a structured decision-making model that results in risk-informed and performance-based defense-in-depth protections to: Ensure appropriate personnel, barriers, and controls to prevent, contain, and mitigate possible inadvertent exposure to radioactive material according to the hazard present, the relevant scenarios, and the associated uncertainties; and ensure that the risks resulting from the failure of some or all of the established barriers and controls, including human errors, are maintained acceptably low. The white paper is an illustration of the staff's work in progress and is expected to be modified as both internal and external review is solicited and considered.

The public comment period for the white paper would have closed on January 10, 2014, however, the NRC has decided to extend the comment period until February 28, 2014, because it was recognized with the holidays, insufficient time had been given for review and comment.

II. Public Meeting

The NRC staff plans to hold a public meeting on January 30, 2014. The meeting time and location has not yet been set, however, the final agenda and any meeting materials will be posted no fewer than 10 days prior to the meeting on the NRC's public Web site at http://meetings.nrc.gov/pmns/mtg. The purpose of this public meeting is for the NRC staff to answer questions, to provide any clarification to the white paper, and to solicit early stakeholder comments. This meeting will be a Category 3 public meeting and stakeholders wishing to provide a presentation should send a request to Mary Drouin at 301-251-7574 or by email to Mary.Drouin@nrc.gov. Presentations must be directly related to providing comments on the white paper (i.e., addressing the questions in the November 25, 2013, Federal Register notice). Requests should be sent in as soon as possible; depending on the number of requests, you will be notified if your presentation will be part of the agenda. If you have any questions, contact Mary Drouin at 301-251-7574 or by email to Mary.Drouin@nrc.gov.

Dated at Rockville, Maryland, this 6th day of January, 2014.
For the Nuclear Regulatory Commission.
Patrick Madden,
Deputy Director, Division of Risk Analysis, Office of Nuclear Regulatory Research.

[FR Doc. 2014-00244 Filed 1-9-14; 8:45 am]

BILLING CODE 7590-01-P